FEDERAL COMMUNICATIONS COMMISSION

Performance Review Board

As required by the Civil Service Reform Act of 1978 (Pub. L. 95-454), Chairman Michael K. Powell appointed the following executives to the Performance Review Board: Julius Knapp, Renee Licht, Mary Beth Richards, and David Solomon.

Federal Communications Commission.
Marlene H. Dortch,
Secretary.

[FR Doc. 04-23291 Filed 10-15-04; 8:45 am]

BILLING CODE 6712-01-P